DEPARTMENT OF ENERGY

Federal Energy Regulatory Commission

[Project No. 2085-000]

Southern California Edison Company; Notice of Authorization for Continued Project Operation

February 25, 2008.

On November 29, 2005, Southern California Edison Company, licensee for the Mammoth Pool Hydroelectric Project, filed an application for a new or subsequent license pursuant to the Federal Power Act (FPA) and the Commission's regulations thereunder. The Mammoth Pool Project is located on the San Joaquin River in Fresno California.

The license for Project No. 2085 was issued for a period ending November 30, 2007. Section 15(a)(1) of the FPA, 16 U.S.C. 808(a)(1), requires the Commission, at the expiration of a license term, to issue from year-to-year an annual license to the then licensee under the terms and conditions of the prior license until a new license is issued, or the project is otherwise disposed of as provided in section 15 or any other applicable section of the FPA. If the project's prior license waived the applicability of section 15 of the FPA, then, based on section 9(b) of the Administrative Procedure Act, 5 U.S.C. 558(c), and as set forth at 18 CFR 16.21(a), if the licensee of such project has filed an application for a subsequent license, the licensee may continue to operate the project in accordance with the terms and conditions of the license after the minor or minor part license expires, until the Commission acts on its application. If the licensee of such a project has not filed an application for a subsequent license, then it may be required, pursuant to 18 CFR 16.21(b), to continue project operations until the Commission issues someone else a license for the project or otherwise orders disposition of the project.

If the project is subject to section 15 of the FPA, notice is hereby given that an annual license for Project No. 2085 is issued to Southern California Edison Company, for a period effective December 1, 2007 through November 30, 2008, or until the issuance of a new license for the project or other disposition under the FPA, whichever comes first. If issuance of a new license (or other disposition) does not take place on or before November 30, 2008, notice is hereby given that, pursuant to 18 CFR16.18(c), an annual license under section 15(a)(1) of the FPA is renewed automatically without further order or notice by the Commission, unless the Commission orders otherwise.

If the project is not subject to section 15 of the FPA, notice is hereby given that Southern California Edison Company, is authorized to continue operation of the Mammoth Pool Project until such time as the Commission acts on its application for a subsequent license.

Kimberly D. Bose,
Secretary.

[FR Doc. E8-3885 Filed 2-28-08; 8:45 am]

BILLING CODE 6717-01-P